DEPARTMENT OF THE INTERIOR

Bureau of Land Management

[LLAZG02200.L16100000.DO0000.LXSS206A0000]

Notice of Availability of the Draft San Pedro Riparian National Conservation Area Resource Management Plan and Associated Environmental Impact Statement, Arizona

AGENCY: Bureau of Land Management, Interior.

ACTION: Notice of availability.

SUMMARY: In accordance with the National Environmental Policy Act of 1969, as amended, and the Federal Land Policy and Management Act of 1976, as amended, the Bureau of Land Management (BLM) Tucson Field Office (TFO) has prepared a Draft Resource Management Plan (RMP) and Draft Environmental Impact Statement (EIS) for the San Pedro Riparian National Conservation Area (SPRNCA) and by this notice is announcing the opening of the comment period.

DATES: To ensure that comments will be considered, the BLM must receive written comments on the Draft RMP/Draft EIS within 90 days following the date the Environmental Protection Agency publishes its Notice of Availability of the Draft RMP/Draft EIS in the Federal Register. The BLM will announce future meetings or hearings and any other public participation activities at least 15 days in advance through public notices, media releases, and/or mailings.

ADDRESSES: You may submit comments related to the SPRNCA Draft RMP/Draft EIS by any of the following methods:

• Website: https://go.usa.gov/xQKFU.

• Email: blm_az_tfo_sprnca_rmp@blm.gov.

• Fax: 520-258-7238.

• Mail: Tucson Field Office Attn: Amy Markstein, 3201 East Universal Way, Tucson, AZ 85756.

Copies of the SPRNCA Draft RMP/Draft EIS are available in the Tucson Field Office at the above address and at the San Pedro Project Office, 4070 S Avenida Saracino, Hereford, AZ 85615.

FOR FURTHER INFORMATION CONTACT: Amy Markstein, Planning & Environmental Specialist, telephone 520-258-7231; address 3201 East Universal Way, Tucson, AZ 85756; email blm_az_tfo_sprnca_rmp@blm.gov.

Persons who use a telecommunications device for the deaf (TDD) may call the Federal Relay Service (FRS) at 1-800-877-8339 to contact the above individual during normal business hours. FRS is available 24 hours a day, 7 days a week, to leave a message or question with the above individual. You will receive a reply during normal business hours.

SUPPLEMENTARY INFORMATION: The SPRNCA was established by Public Law 100-696 on November 18, 1988. The planning area is located in Cochise County in southeastern Arizona, and encompasses approximately 55,990 acres of public land administered by the BLM TFO. The SPRNCA is located adjacent to the City of Sierra Vista and is near Fort Huachuca, Arizona.

The SPRNCA is currently managed under the Safford District RMP (1992 and 1994), which incorporated RMP level decisions from the San Pedro River Riparian Management Plan (1989). This planning effort would update management guidance from the previous plans and create a new RMP for the SPRNCA. The planning effort is needed to identify goals, objectives, and management actions for the SPRNCA's resources and uses identified in the enabling legislation, including aquatic; wildlife; archaeological; paleontological; scientific; cultural; educational; and recreational resources and values.

The BLM used public scoping comments to help identify planning issues that directed the formulation of alternatives and framed the scope of analysis in the Draft RMP/Draft EIS. Issues identified included management of water, vegetation, and soil resources, fire management, Threatened and Endangered species management, livestock grazing, access, recreation, socio-economics, and lands and realty. The planning effort also considers lands with wilderness characteristics, wild and scenic rivers, and Areas of Critical Environmental Concern (ACECs).

The Draft RMP/Draft EIS evaluates four alternatives in detail. Alternative A is the No Action Alternative, which is a continuation of current management in the existing Safford District RMP and San Pedro River Riparian Management Plan. It is a continuation of current public use, resource protection, and conservation prescriptions without change. It neither sets desired outcomes for resource management or most uses, nor addresses new issues unforeseen or nonexistent when the Safford District RMP was prepared. Alternative B provides opportunities for increased public access, includes livestock grazing in sensitive riparian and cultural areas, allows recreation uses, and focuses on active resource management using the broadest array of management tools. This would include use of heavy equipment, herbicide, hand tools, and prescribed fire to achieve goals and objectives, to mitigate any effects from increased use, and for ecosystem restoration. Alternative B places an emphasis on opportunities for motorized access. Alternative C is the BLM's preferred alternative. Alternative C represents a balance between resource protection and public access, authorizes livestock grazing in areas compatible with the established conservation values, and provides for a diverse mix of recreation opportunities. As in Alternative B, Alternative C focuses on active resource management and would allow for use of the broadest array of management tools for ecosystem restoration and to meet goals and objectives. Alternative D emphasizes resource protection and conservation. It emphasizes primitive recreational experiences with limited motorized access, protection of wilderness characteristics, ACECs, and management of the San Pedro and Babocomari Wild and Scenic Rivers. It focuses on natural processes and use of “light on the land” management methods, such as the use of hand tools and prescribed fire, to help meet goals and objectives.

Pursuant to 43 CFR 1610.7-2(b), this notice announces a concurrent public comment period for potential ACECs. There are three existing ACECs under Alternative A, and three expanded and two new potential ACECs under Alternative D. ACECs are not proposed under Alternatives B and C. Pertinent information regarding these ACECs, including proposed designation acreage and resource use limitations are listed below.

Proposed ACECs
| Alternative A (acres) | Alternative D (acres) | ACEC resource values | Resource use limitations
Saint David Cienega ACEC | 380 | 2,710 | Cienega habitat, Cultural and historical values | Visual Resource Management (VRM) class II.
San Pedro ACEC | 1,420 | 7,230 | Upland and riparian areas, Rare plants, Cultural and historical values | VRM class II.
San Rafael ACEC | 370 | 560 | Rare plants, Giant sacaton grasslands, Mesquite bosques | VRM class II.
Curry-Horsethief ACEC |  | 2,540 | Cultural, historical, and paleontological values | VRM class II, land use authorizations would be excluded.
Lehner Mammoth ACEC |  | 30 | Cultural, historical, and paleontological values | VRM class II, land use authorizations would be excluded.

Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Raymond Suazo,
State Director.

[FR Doc. 2018-13813 Filed 6-28-18; 8:45 am]

BILLING CODE 4310-32-P